DEPARTMENT OF LABOR

Employment and Training Administration

Agency Information Collection Activities; Comment Request; Financial Report Form ETA-9130

ACTION: Notice.

SUMMARY: The Department of Labor's (DOL's) Employment and Training Administration (ETA) is soliciting comments concerning a proposed revision to the authority to conduct the information collection request (ICR) titled, “Financial Report Form ETA-9130.” This comment request is part of continuing Departmental efforts to reduce paperwork and respondent burden in accordance with the Paperwork Reduction Act of 1995 (PRA).

DATES: Consideration will be given to all written comments received by September 17, 2019.

ADDRESSES: A copy of this ICR with applicable supporting documentation; including a description of the likely respondents, proposed frequency of response, and estimated total burden, may be obtained free by contacting Latonya Torrence by telephone at 202-693-3708 (this is not a toll-free number), TTY 1-877-889-5627 (this is not a toll-free number), or by email at Torrence.Latonya@dol.gov.

Submit written comments about, or requests for a copy of, this ICR by mail or courier to the U.S. Department of Labor, Employment and Training Administration, Office of Grants Management, 200 Constitution Avenue NW, Room N-4716, Washington, DC 20210; by email: Torrence.Latonya@dol.gov; or by Fax 202-693-2705.

FOR FURTHER INFORMATION CONTACT: Latonya Torrence by telephone at 202-693-3708 (this is not a toll-free number) or by email at Torrence.Latonya@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

ETA provides grant recipients with software that reflects the requirements of the ETA-9130 so grant recipients can report the required data electronically. This data collection format permits ETA to evaluate program effectiveness and to monitor and analyze financial activity, while complying with OMB efforts to streamline Federal financial reporting.

The proposed information collection request seeks an extension of the series of ETA-9130 forms (OMB Control No. 1205-0461) grant recipients currently use for financial reporting for all ETA programs. In addition, ETA seeks to add a new reporting line, Training Expenditures, to the ETA-9130 forms (A-F) used for the Workforce Innovation and Opportunity Act (WIOA) Adult, Youth, and Dislocated Worker programs. The funds reported in this line item represent the cumulative amount for training services provided to program participants. The following sections of WIOA (Pub. L. 113-128) authorize this information collection:

WIOA Sec. 116. (d)(2)(F)

(2) Contents of State Performance Reports.—

(F) In General.—The performance report for a state should include the average cost per participant of those participants who received career and training services, respectively, during the most recent program year and the three preceding program years

WIOA Sec. 185(c)(1)

(c) Grantee Information Responsbilities

(1) In General.—Each state, each local board, and each recipient receiving funds under this title shall make readily accessible such reports concerning its operations and expenditures as shall be prescribed by the Secretary.

WIOA Sec. 185(d)(1)(D)

(d) Information To Be Included in Reports

(1) In General.—The reports required in subsection (c) shall include information regarding programs and activities carried out under this title pertaining to specified costs of the programs and activities.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB Control Number 1205-0461.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Revision.

Title of Collection: Financial Report Form ETA-9130.

Form: ETA-9130.

OMB Control Number: 1205-0461.

Affected Public: State workforce agencies, local governments, non-profit organizations, educational institutions, consortia of any and/or all of the above.

Estimated Number of Respondents: 1,000.

Frequency: Quarterly.

Total Estimated Annual Responses: 20,000.

Estimated Average Time per Response: ¾ hour.

Estimated Total Annual Burden Hours: 15,000 hours.

Total Estimated Annual Other Cost Burden: $0.

Molly E. Conway,
Acting Assistant Secretary for Employment and Training.

[FR Doc. 2019-15342 Filed 7-18-19; 8:45 am]

BILLING CODE 4510-FN-P